DEPARTMENT OF ENERGY

Federal Energy Regulatory Commission

[Docket No. IC19-29-000]

Commission Information Collection Activities (FERC-550); Comment Request Extension

AGENCY: Federal Energy Regulatory Commission, DOE.

ACTION: Comment request.

SUMMARY: In compliance with the requirements of the Paperwork Reduction Act of 1995, the Federal Energy Regulatory Commission (Commission or FERC) is soliciting public comment on the currently approved information collection, FERC-550 (Oil Pipeline Rates—Tariff Filings).

DATES: Comments on the collection of information are due by September 30, 2019.

ADDRESSES: You may submit comments (identified by Docket No. IC19-29-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-550, Oil Pipelines Rates—Tariff Filings.

OMB Control No.: 1902-0089.

Type of Request: Three-year extension of the FERC-550 information collection requirements with no changes to the current reporting requirements.

Abstract: FERC-550 is required to implement the sections of the Interstate Commerce Act (ICA) (49 U.S.C. 1, et seq., 49 App. U.S.C. 1-85). The Commission's regulatory jurisdiction over oil pipelines includes:

• Regulation of rates and practices of oil pipeline companies engaged in interstate transportation;

• establishment of equal service conditions to provide shippers with equal access to pipeline transportation;

• establishment of reasonable rates for transporting petroleum and petroleum products by pipeline.

The filing requirements for oil pipeline tariffs and rates ¹ put in place by the FERC-550 data collection provide the Commission with the information it needs to analyze proposed tariffs, rates, fares, and charges of oil pipelines and other carriers in connection with the transportation of crude oil and petroleum products. The Commission uses this information to determine whether the proposed tariffs and rates are just and reasonable.

¹ 18 Code of Federal Regulations (CFR) Parts 341-348.

Type of Respondent: Oil Pipelines.

Estimate of Annual Burden: ² The Commission estimates the annual public reporting burden and cost ³ for the FERC-550 information collection as follows:

² “Burden” is the total time, effort, or financial resources expended by persons to generate, maintain, retain, or disclose or provide information to or for a Federal agency. For further explanation of what is included in the information collection burden, refer to 5 CFR 1320.3.

³ The Commission staff thinks that the hourly cost (for wages and benefits) for industry staff completing the FERC-550 is similar to the cost of FERC employees. FERC staff estimates that industry costs for salary plus benefits are similar to Commission costs. The cost figure is the FY2019 FERC average annual salary plus benefits ($167,091/year or $80/hour).

FERC-550—Oil Pipelines Rates—Tariff Filings
Number of respondents | Annual number of responses per respondent | Total number of responses ⁴ | Average burden hours & cost ($) per response | Total annual burden hours & total annual cost ($) | Cost per respondent ($)
(1) | (2) | (1) * (2) = (3) | (4) | (3) * (4) = (5) | (5) ÷ (1)
219 | 3.24 | 710 | 7 hrs.; $560 | 4,970 hrs.; $397,600 | $1,815.52

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ This figure is rounded.

Dated: July 23, 2019.
Nathaniel J. Davis, Sr.,
Deputy Secretary.

[FR Doc. 2019-16118 Filed 7-29-19; 8:45 am]

BILLING CODE 6717-01-P